DEPARTMENT OF TRANSPORTATION

Office of the Secretary

[Docket No. DOT-OST-2016-0233]

Solicitation of Proposals for Designation of Automated Vehicle Proving Grounds Pilot

AGENCY: Office of the Secretary, U.S. Department of Transportation (DOT).

ACTION: Notice of intent to designate proving grounds.

SUMMARY: It is the policy of the U.S. Department of Transportation (“DOT” or the “Department”) to foster the safe deployment of advanced automated vehicle technologies to achieve national goals while understanding the long-term societal and ethical impacts that these technological advancements may impose. To further this understanding, the DOT is requesting proposals from applicants to form an initial network of multiple proving grounds, focused on the advancement of automated vehicle technology. These entities will be designated as a Community of Practice to develop and share best practices around the safe testing, demonstration and deployment of automated vehicle technology.

DATES: Proposals must be submitted by 11:59 p.m. EST on December 19, 2016.

ADDRESSES: Final proposals must not exceed 15 pages in length, and must be submitted electronically to: automation@dot.gov.

FOR FURTHER INFORMATION CONTACT: For further information concerning this notice, please send inquiries to automation@dot.gov.

SUPPLEMENTARY INFORMATION: The Department is requesting applications to be designated as USDOT Automated Vehicle Proving Grounds. Please read this notice in its entirety so that you have all the information to determine whether you would like to submit a proposal.

DESCRIPTION: Benefits of Designation as a USDOT Automated Vehicle Proving Ground: Automated and connected vehicle technologies are advancing, but the pace of innovation can accelerate through the safe testing and deployment of vehicles on closed tracks, on campuses and on limited roads. For this purpose, the DOT is seeking applications from eligible entities that would like to be designated USDOT Automated Vehicle Proving Grounds. The Department anticipates that the designation will encourage new levels of public safety while contributing to a strong innovative foundation able to transform personal and commercial mobility and open new doors to disadvantaged people and communities. The designated proving grounds will collectively form a Community of Practice around safe testing and deployment. This group will openly share best practices for the safe conduct of testing and operations as they are developed, enabling the participants and the general public to learn at a faster rate and accelerating the pace of safe deployment. Designated Proving Grounds must establish a Designated Safety Officer responsible for their safety management plan and commit to sharing their approaches to safety and non-proprietary/non-confidential safety data generated though testing and operation.

DESIGNATION DECISIONS: The Secretary of Transportation will make all designations under this notice. A designation as a USDOT Automated Vehicle Proving Ground is not an award of Federal financial assistance.

ELIGIBILITY INFORMATION: The following entities are eligible for designation as a USDOT Automated Vehicle Proving Ground. Individuals are not eligible for designation under this notice. Facilities will not be limited to a predetermined size, number or variety of domains/capabilities. The Department actively encourages the inclusion of minority institutions//businesses (e.g., small and disadvantaged businesses). Eligible entities include:

(1) Test tracks or testing facilities

(2) Race tracks

(3) Cities/urban cores

(4) Highway corridors

(5) Campuses (corporate or academic)

SELECTION CRITERIA: The Secretary of Transportation will make all designations. Selections will be based on meeting the mandatory criteria and the level of ability of the applicant to meet one or more of the other criteria identified below:

Mandatory Criteria

• A Designated Safety Officer responsible for the entity's safety management plan and who will participate in the Community of Practice's regular quarterly meeting of Safety Officers.

• Commitment to sharing the entity's approaches to safety and safety data generated through testing and operation.

Proposed Contributions

• The extent to which the applicant meets the above eligibility and administers an established automated vehicle program, either independently or through a partnership.

• The capability of the applicant to provide leadership in making national and regional contributions to the solution of both long-range and immediate mobility challenges through the testing and deployment of automated vehicle technology.

• The applicant's proposed contributions to the Community of Practice. Examples include established safety management plans, access to testing data, engagement with stakeholders or ability to generate results that have broad applicability.

• As part of participation in the Community of Practice, Designated Proving Grounds applicant's ability and willingness to maintain a working relationship with the Department's relevant research program offices. The application should describe this proposed relationship, including aspects such as potential participation in conferences, meetings, joint research efforts, and submission of significant activity reports to the DOT on a routine basis.

Commitment to Safety

• The demonstrated capability to control risks through the implementation of robust safety precautions through a published safety management plan in all proving ground testing and operations.

• Applicant demonstrates that specific safety considerations have been met over the course of operation, including safety of proving ground personnel, safety protocols when making use of public roads, and attention to safe design, deployment, and operation of automated devices.

Research, Application and Data Sharing

• The extent to which the State or locality in which the applicant is located can provide applicable solutions for the broader region and surrounding corridor for improved mobility through the advancement of automated vehicle technology.

• The demonstrated research and extension resources available to the applicant for carrying out activities and programs as they relate to automated vehicle advancements.

• The degree to which the applicant can disseminate results of automated vehicle research through a statewide or region-wide education program to support the national deployment of automated vehicle technology.

• A commitment to open data and sharing performance metrics and results of objective tests.

Demonstrated Investments

• In facilitating automated vehicle testing, applicants demonstrate commitment through one or more of the following:

(1) Capital improvements to the proving grounds to advance automated vehicles;

(2) Authorization for the proving grounds, either through State legislation or regulation, to address regulatory challenges associated with higher levels of automation;

(3) Testing or deployment underway to determine automated vehicle technology feasibility.

Readiness

(1) Designated facility is open for testing, or the ability of the applicant to demonstrate that the facility will be open for testing, by January 1, 2018.

(2) The facility supports testing by multiple users, or the data generated by the proving ground is shared openly to the public.

(3) Designated facility provides a Designated Point of Contact.

(4) If making use of public roads, the applicant demonstrates that it has engaged with any affected communities and can show that it is actively working with those communities to address any concerns.

Adherence to Laws, Regulations, and Federal Policy

• The degree to which the application addresses how the automated vehicle testing facility will adhere to all state and local laws and federal regulations.

• If making use of public roads, the applicant demonstrates adherence to those primary subject areas outlined in the National Highway Traffic Safety Administration's (NHTSA) policy for automated vehicles (Federal Automated Vehicles Policy: Accelerating the Next Revolution in Roadway Safety) for any testing or deployment of L3-L5 systems on public roads.

REVIEW AND SELECTION PROCESS: DOT will review all applications received by the deadline. The designation review and selection process consists of two phases: Eligibility & Technical Review and Senior Review. In the Eligibility & Technical Review phase, DOT staff will (1) ensure that the applicant is eligible (see Eligibility Information section) and (2) assess the applicant's ability to meet the mandatory criteria and one or more of the other Selection Criteria enumerated above. In the Senior Review phase, which includes senior leadership from DOT, specific applications may be advanced to the Secretary for selection. In making recommendations, the Senior Review team may seek to ensure an equitable geographic distribution and the inclusion of minority institutions/businesses (e.g., small and disadvantaged businesses). The Secretary selects from applications advanced by the Senior Review team for designations.

DESIGNATION NOTICE: The Secretary will announce designations by posting a list of USDOT Automated Vehicle Proving Grounds at www.transportation.gov/. The Department anticipates that the selection of the initial USDOT Automated Vehicle Proving Grounds will be completed during the first quarter of calendar year 2017. The Department may make additional designations on an annual basis or as deemed appropriate.

DESIGNATION AGENCY CONTACTS: For further information concerning this notice, please contact the Department via email at automation@dot.gov, or call Christopher Hillers at 202-366-5421.

OTHER INFORMATION: All information submitted as part of or in support of any application shall use publicly available data or data that can be made public and methodologies that are accepted by industry practice and standards, to the extent possible. If the application includes information you consider to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA.

Issued in Washington, DC, on November 22, 2016.
Anthony R. Foxx,
Secretary of Transportation.

[FR Doc. 2016-28619 Filed 11-28-16; 8:45 am]

BILLING CODE 4910-9X-P